DEPARTMENT OF TRANSPORTATION

Federal Aviation Administration

14 CFR Part 71

[Docket No. FAA-2022-1333; Airspace Docket No. 22-ASO-24]

RIN 2120-AA66

Amendment of Class D and Class E Airspace; Athens/Ben Epps Airport, Athens, GA

AGENCY: Federal Aviation Administration (FAA), DOT.

ACTION: Final rule.

SUMMARY: This action amends Class D airspace, Class E surface airspace, Class E airspace designated as an extension to a Class D surface area, and Class E airspace extending upward from 700 feet above the surface at Athens/Ben Epps Airport, Athens, GA as a result of the biennial airspace evaluation. This action eliminates the excess airspace remaining after the decommissioning of the Bulldog Non-Directional Beacon (NDB) and subsequent cancellation of the NDB Runway 27 approach to Athens/Ben Epps Airport effective October 15, 2015, and updates the geographic coordinates for the airport and the Point of Origin. Controlled airspace is necessary for the safety and management of instrument flight rules (IFR) operations in the area.

DATES: Effective 0901 UTC, April 20, 2023. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, contact the Airspace Policy Group, Federal Aviation Administration, 800 Independence Avenue SW, Washington, DC 20591; Telephone: (202) 267-8783.

FOR FURTHER INFORMATION CONTACT: Jennifer Ledford, Operations Support Group, Eastern Service Center, Federal Aviation Administration, 1701 Columbia Ave., College Park, GA 30337; Telephone (404) 305-5946.

SUPPLEMENTARY INFORMATION:

Authority for This Rulemaking

The FAA's authority to issue a rule regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends airspace for Athens/Ben Epps Airport, Athens, GA, to support IFR operations in the area.

History

The FAA published a notice of proposed rulemaking in the Federal Register (87 FR 67584, November 9, 2022) for Docket No. FAA-2022-1333 to amend Class D airspace, Class E surface airspace, Class E airspace designated as an extension to a Class D surface area, and Class E airspace extending upward from 700 feet above the surface at Athens/Ben Epps Airport, Athens, GA, as a result of the biennial airspace evaluation.

Interested parties were invited to participate in this rulemaking effort by submitting written comments on the proposal to the FAA. No comments were received.

Class D and E airspace designations are published in Paragraphs 5000, 6002, 6004, and 6005, respectively, of FAA Order 7400.11G, dated August 19, 2022, and effective September 15, 2022, which is incorporated by reference in 14 CFR 71.1. The Class D and E airspace designations listed in this document will be published subsequently in FAA Order JO 7400.11.

FAA Order JO 7400.11, Airspace Designations and Reporting Points, is published yearly and effective on September 15.

Differences From the NPRM

Subsequent to the publication of the Notice of Proposed Rulemaking, the FAA found the distances on each side of the Athens Point of Origin 195° bearing and the Athens Point of Origin 076° bearing were incorrect. The dimensions were correct in the Proposal section of the Preamble but were mistakenly transposed in the airspace description. This action corrects the error. Controlled airspace is necessary for the safety and management of instrument flight rules (IFR) operations in the area.

Availability and Summary of Documents for Incorporation by Reference

This document amends FAA Order 7400.11G, Airspace Designations and Reporting Points, dated August 19, 2022, and effective September 15, 2022. FAA Order 7400.11G is publicly available as listed in the ADDRESSES section of this document. FAA Order 7400.11G lists Class A, B, C, D, and E airspace areas, air traffic routes, and reporting points.

The Rule

The FAA is amending 14 CFR part 71 by extending the Class D airspace for Athens/Ben Epps Airport from a 4-mile radius to a 4.6-mile radius surrounding the airport and by updating the airport's geographic coordinates to coincide with the FAA's database. Also, Class E surface airspace, extension to Class D airspace, and transition airspace are being amended for the above airport. Class E surface airspace for Athens/Ben Epps Airport is being extended from a 4-mile radius to a 4.6-mile radius surrounding the airport. The Class E airspace used for an extension to Class D is being reduced from 3 miles to 1.4 miles on each side of the Athens Point of Origin 195° bearing extending from the 4.6-mile radius of the Athens/Ben Epps Airport to 7.6 miles south of the Point of Origin and is being reduced from 3 miles to 2.4 miles each side of the Athens Point of Origin 076° bearing extending from the 4.6-mile radius of the airport to 7 miles east of the Point of Origin. The Class E5 transition airspace extending upward from 700 feet above the surface is being amended to within a 7.7-mile radius of Athens/Ben Epps Airport (reduced from an 11.5-mile radius). This eliminates the excess airspace that remained after the decommissioning of the Bulldog (BJT) non-directional beacon (NDB) and subsequent cancellation of the NDB Rwy 27 approach, effective October 15, 2015 (80 FR 61978). In addition, this action replaces the outdated terms Airport/Facility Directory with Chart Supplement and Notice to Airmen with the term Notice to Air Missions in the airspace descriptions. This action also replaces the VORTAC used for airspace definition with a point-of-origin.

Subsequent to the publication of the Notice of Proposed Rulemaking, the FAA found the distances on each side of the Athens Point of Origin 195° bearing and the Athens Point of Origin 076° bearing were incorrect. The dimensions were correct in the Proposal section of the Preamble but were mistakenly transposed in the airspace description. This action corrects the error. Controlled airspace is necessary for the safety and management of instrument flight rules (IFR) operations in the area.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraphs 5-6.5a. This airspace action is not expected to cause any potentially significant environmental impacts, and no extraordinary circumstances warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11G, Airspace Designations and Reporting Points, dated August 19, 2022, and effective September 15, 2022, is amended as follows:

Paragraph 5000 Class D Airspace.

* * * * *

ASO GA D Athens, GA [Amended]

Athens/Ben Epps Airport, Athens, GA

(Lat. 33°56′55″ N, long. 83°19′33″ W)

That airspace extending upward from the surface to and including 3,300 feet MSL within a 4.6-mile radius of the Athens/Ben Epps Airport. This Class D airspace area is effective during the specified dates and times established in advance by a Notice to Air Missions. The effective date and time will be continuously published in the Chart Supplement.

Paragraph 6002 Class E Surface Airspace.

* * * * *

ASO GA E2 Athens, GA [Amended]

Athens/Ben Epps Airport, Athens, GA

(Lat. 33°56′55″ N, long. 83°19′33″ W)

That airspace extending upward from the surface within a 4.6-mile radius of the Athens/Ben Epps Airport. This Class E airspace area is effective during the specific dates and times established in advance by a Notice to Air Missions. The effective date and time will thereafter be continuously published in the Chart Supplement.

Paragraph 6004 Class E Airspace Designated as an Extension to Class D Surface Area.

* * * * *

ASO GA E4 Athens, GA [Amended]

Athens/Ben Epps Airport, Athens, GA

(Lat. 33°56′55″ N, long. 83°19′33″ W)

Athens Point of Origin

(Lat. 33°56′51″ N, long 83°19′29″ W)

That airspace extending upward from the surface within 1.4 miles on each side of the Athens Point of Origin 195° bearing extending from the 4.6-mile radius of the Athens/Ben Epps Airport to 7.6 miles south of the Point of Origin and within 2.4 miles each side of the Athens Point of Origin 076° bearing extending from the 4.6-mile radius of the airport to 7 miles east of the Point of Origin. This Class E airspace area is effective during the specific dates and times established in advance by a Notice to Air Missions. The effective date and time will thereafter be continuously published in the Chart Supplement.

Paragraph 6005 Class E Airspace Areas Extending Upward From 700 Feet or More Above the Surface of the Earth.

* * * * *

ASO GA E5 Athens, GA [Amended]

Athens/Ben Epps Airport, GA

(Lat. 33°56′55″ N, long. 83°19′33″ W)

That airspace extending upward from 700 feet above the surface within a 7.7-mile radius of Athens/Ben Epps Airport.

Issued in College Park, Georgia, on January 11, 2023.
Andreese C. Davis,
Manager, Airspace & Procedures Team South, Eastern Service Center, Air Traffic Organization.

[FR Doc. 2023-00814 Filed 1-17-23; 8:45 am]

BILLING CODE 4910-13-P